DEPARTMENT OF EDUCATION

[Docket ID ED-FSA-2022-0030]

Privacy Act of 1974; System of Records

AGENCY: Federal Student Aid, U.S. Department of Education.

ACTION: Notice of a modified system of records.

SUMMARY: In accordance with the Privacy Act of 1974, as amended (Privacy Act), the Chief Operating Officer for Federal Student Aid (FSA) of the U.S. Department of Education (Department) publishes this notice of a modified system of records entitled the “National Student Loan Data System” (NSLDS) (18-11-06). The information contained in this system is maintained for various purposes relating to aid applicants and recipients. These include determining aid applicants' and recipients' eligibility for Federal student financial assistance under the programs authorized by title IV of the Higher Education Act of 1965, as amended (HEA); assisting institutions of higher education participating in and administering the title IV, HEA programs by verifying the eligibility of borrowers for, and tracking, loans; and assisting the Department's oversight and administration of the title IV, HEA programs, including evaluating their effectiveness.

DATES: Submit your comments on this modified system of records notice on or before October 24, 2022.

This modified system of records notice will become applicable upon publication in the Federal Register on September 22, 2022, except for the new and modified routine uses (1)(m), (1)(p), (6), (7), and (14) that are outlined in the section entitled “ROUTINE USES OF RECORDS MAINTAINED IN THE SYSTEM, INCLUDING CATEGORIES OF USERS AND PURPOSES OF SUCH USES,” which will become applicable on October 24, 2022, unless they need to be changed as a result of public comment. The Department will publish any changes to the modified system of records notice resulting from public comment.

ADDRESSES: Submit your comments through the Federal eRulemaking Portal or via postal mail, commercial delivery, or hand delivery. We will not accept comments submitted by fax or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this modified system of records, address them to: Director, Partner Systems Integration Division, Program Technical and Business Support Group, Partner Management and Support Services, Partner Participation and Oversight, Federal Student Aid (FSA), U.S. Department of Education, Union Center Plaza (UCP), 830 First Street NE, Room 41F1, Washington, DC 20202-5454.

Privacy Note: The Department's policy is to make all comments received from members of the public available for public viewing in their entirety on the Federal eRulemaking Portal at www.regulations.gov.

Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Valerie Sherrer, Director, Partner System Integration Division, Program Technical and Business Support, Partner Participation and Oversight Directorate, FSA, U.S. Department of Education, UCP, 830 First Street NE, Room 41F1, Washington, DC 20202-5454. Telephone:(202) 377-3547.

If you use a telecommunications device for the deaf (TDD) or a text telephone (TTY), you may call the Federal Relay Service (FRS), toll free, at 1-800-877-8339.

SUPPLEMENTARY INFORMATION:

Introduction

The “National Student Loan Data System (NSLDS)” system of records notice (18-11-06) was last published in full in the Federal Register on September 9, 2019 (84 FR 47265).

The Department is modifying the section entitled “SYSTEM LOCATION” as follows:

(i) To make minor updates to the Director's organization;

(ii) To delete Mid-Atlantic Data Center located in Clarksville, VA, the Briefcase Systems located in Arlington, VA, the NSLDS Call Center located in Lawrence, KS, and General Dynamics Information Technology located in Coralville, IA;

(iii) To add the following Department contractor locations:

a. Amazon Web Services Government Cloud, 410 Terry Ave., North Seattle, WA 98109-5210 (the Computer Center for the NSLDS application where all electronic NSLDS information is processed and stored);

b. Accenture, 22451 Shaw Rd., Sterling, VA 20166-4319 (Accenture's main program office);

c. Accenture DC, 820 First St. NE, Washington, DC 20202-4227 (an alternate Accenture work site to support NSLDS);

d. Accenture Federal Services, 10931 Laureate Dr., San Antonio, TX 78249 (an alternate Accenture work site to support NSLDS);

e. NTT Global Data Centers Americas, 44664 Guilford Dr., Ashburn, VA 20147 and 2008 Lookout Dr., Garland, TX 75044 (NSLDS Call recordings are stored at these locations);

f. Oracle Service Cloud, 500 Eldorado Blvd., Broomfield, CO 80021 (provides customer case management and reporting capabilities to NSLDS Help Desk Customer Service Representatives (CSR) and has the capability to track and store NSLDS inquiries, which allows CSRs to respond to these cases/inquiries);

g. ASM Research, 2429 Military Rd., Suite 200, Niagara Falls, NY 14304 (an NSLDS Customer Service Center);

h. Senture, LLC, 4255 W Highway 90, Monticello, KY 42633-3398 (an NSLDS Customer Service Center); and

i. Veteran Call Center, LLC, 53 Knightsbridge Rd., Suite 216, Piscataway, NJ 08854-3925 (an NSLDS Customer Service Center).

The Department is modifying the section entitled “SYSTEM MANAGER(S)” to make minor updates to the Director's organization.

The Department is modifying the section entitled “AUTHORITY FOR MAINTENANCE OF THE SYSTEM” to delete and replace “borrowers” with “individual” and to add “the Higher Education Relief Opportunities for Students Act of 2003 (20 U.S.C. 1098bb) (including any waivers or modifications that the Secretary of Education deems necessary to make to any statutory or regulatory provision applicable to the student financial assistance programs under title IV of the HEA to achieve specific purposes listed in the section in connection with a war, other military operation, or a national emergency).”

The Department is modifying the section entitled “PURPOSE(S) OF THE SYSTEM” relating to applicants and recipients of aid under title IV of the HEA as follows:

(i) The first paragraph was updated to delete and replace “students and borrowers” with “applicants and recipients of aid under title IV of the HEA”;

(ii) The Department added a note immediately after the first paragraph stating that: “Different parts of the HEA use the terms `discharge,' 'cancellation,' or 'forgiveness' to describe when a borrower's loan amount is reduced in whole or in part by the Department. To reduce complexity, this system of records notice uses the term `discharge' to include all three terms (`discharge,' `cancellation,' and `forgiveness'), including, but not limited to, discharges of student loans made pursuant to specific benefit programs. At times, the system of records notice may refer by name to a specific benefit program, such as the `Public Service Loan Forgiveness' program; such specific references are not intended to exclude any such program benefits from more general references to loan discharges”;

(iii) Purpose (1) was modified to delete and “pre and post screening” and replace “student/borrower eligibility for federal student financial aid programs” with “the eligibility of aid applicants and recipients for Federal student financial aid programs”;

(iv) Purpose (2) was modified to delete and replace “student/borrower” with “aid applicant and recipient”;

(v) Purpose (3) was modified to delete and replace “loan borrowers and students who owe grant overpayment amounts” with “aid recipients who owe title IV, HEA obligations”;

(vi) Purpose (4) was deleted because the NSLDS no longer provides a website for students/borrowers;

(vii) Newly renumbered purpose (6) was modified to delete and replace “cancellation” with “discharge”;

(viii) Purpose (8) relating to tracking the level of study and the Classification of Instructional Programs (CIP) code to limit eligibility for Direct Subsidized Loans and to determine when a borrower will be responsible for accruing interest on outstanding Direct Subsidized Loans was deleted because the Consolidated Appropriations Act, 2021, repealed the requirements referenced therein regarding limiting Direct Subsidized Loan eligibility;

(ix) Newly renumbered purpose (7) was updated to indicate that a purpose of the NSLDS is to identify qualifying individuals and inform them about title IV, HEA benefits, including total and permanent disability (TPD) discharges, Public Service Loan Forgiveness (PSLF), and benefits under the Servicemembers Civil Relief Act (SCRA), 50 U.S.C. 3901-4043, to streamline the process for applying for loans and benefits, and to recoup payments or delinquent debts under title IV, HEA programs;

(x) Newly renumbered purpose (8) was updated to delete and replace “prospective students and borrowers” with “the public”;

(xi) Newly renumbered purpose (9) was added to enable the Department, or other Federal, State, Tribal, or local government agencies, to investigate, respond to, or resolve complaints regarding the Department's and/or the Department's contractors' practices or processes, or to investigate, respond to, or resolve aid recipients' requests for assistance or relief with regard to title IV, HEA program funds;

(xii) Newly renumbered purpose (10) was added to conduct testing, analysis, or take other administrative actions needed to prepare for or execute programs under title IV of the HEA; and

(xiii) New purpose (11) was added to process income eligibility information and documentation for aid applicants and recipients, or applicable aid applicants' and recipients' parents or spouses, pertaining to the discharge of eligible loans under title IV, HEA programs.

The Department is modifying the section entitled “PURPOSE(S) OF THE SYSTEM” relating to institutions of higher education (also referred to in the modified system of records notice as “educational institutions” or “postsecondary institutions”) participating in, and administering, title IV, HEA programs as follows:

(i) Purpose (1) was updated to include the verification of the eligibility of a student, potential student, or parent for loan or Pell Grant disbursements;

(ii) Purpose (3) was moved to purpose (16) under the section entitled “PURPOSE(S) OF THE SYSTEM relating to the Department's oversight and administration of title IV, HEA programs” because it addresses loan transfers between servicers or loan holders and does not relate to institutions of higher education participating in, and administering, title IV, HEA programs;

(iii) Newly renumbered purpose (4) was modified to delete and replace “students or borrowers” with “aid applicants and recipients”;

(iv) Newly renumbered purpose (6) was updated to include the Department of Justice (DOJ) in the list of entities collecting debts arising from the receipt of title IV, HEA funds;

(v) Newly renumbered purpose (9) was modified to include other Federal, State, Tribal, or local governmental agencies as entities for which reporting capabilities are provided for use in oversight and compliance;

(vi) Purpose (13) relating to collection of debt was deleted because it is duplicative of newly renumbered purpose (6);

(vii) Newly renumbered purpose (13) was modified to include the College Scorecard as an example of a consumer reporting tool; and

(viii) Purpose (15) which relates to obtaining information and reporting the level of study, CIP code, and published length of an educational program in which a student receiving title IV, HEA Federal student aid is enrolled to ensure his or her eligibility for Direct Subsidized loans and to determine whether a borrower who enrolls will be responsible for the accruing interest on outstanding Direct Subsidized Loans was deleted because the Consolidated Appropriations Act, 2021, repealed the requirements referenced therein regarding limiting Direct Subsidized Loan eligibility.

The Department is modifying the section entitled “PURPOSE(S) OF THE SYSTEM” relating to the Department's oversight and administration of title IV, HEA programs as follows:

(i) Purpose (5) was modified to delete and replace “student/borrower” with “aid applicant and recipient”;

(ii) Purpose (13) was added to verify that Federal, State, local, and Tribal statutory, regulatory, and program requirements are met by educational and financial institutions, Federal Loan Servicers, the Federal Perkins Loan Servicer, and guaranty agencies;

(iii) Purpose (14) was added to help governmental entities at the Federal, State, Tribal, and local levels exercise their supervisory and administrative powers (including, but not limited to, licensure, examination, discipline, regulation, or oversight of educational institutions, Department contractors, guaranty agencies, eligible lenders, and third-party servicers) or to investigate, respond to, or resolve complaints regarding the practices or processes of the Department and/or the Department's contractors, or to update information or correct errors contained in Department records regarding an aid recipient's title IV, HEA program funds;

(iv) Purpose (15) was added to provide information to support web-based access to aid applicants' and recipients' title IV, HEA program data including enrollment; and

(v) Purpose (16) was added to track loan transfers from one holder or servicer to another.

The Department is modifying the section entitled “CATEGORIES OF INDIVIDUALS COVERED BY THE SYSTEM” as follows:

(i) The first paragraph was updated to delete and replace “individual recipients of aid under the title IV, HEA programs” with “individual title IV, HEA aid applicants and recipients”;

(ii) A new second paragraph was added to indicate that the system also contains information on the parent(s) of a dependent aid applicant and recipient and the spouse of a married aid applicant;

(iii) In addition, the section was updated to add endorsers who received or co-signed on a loan(s) under one of the programs authorized under title IV of the HEA and to move the phrase providing examples of such programs to this part of the section;

(iv) The section was further updated to clarify the loan types covered under the William D. Ford Direct Loan Program (Direct Loan); Program, including Federal Direct Unsubsidized and Subsidized Stafford/Ford Loans, Federal Direct Consolidation Loans, and Federal Direct PLUS Loans;

(v) The section was further updated to reflect enrollment information for individuals who have received Parent PLUS and Grad PLUS loans; and

(vi) Lastly, the section was updated to reflect that as of 2022 the Department no longer collects or monitors records for the 150 percent Direct Subsidized Loan Limit.

The Department is modifying the section entitled “CATEGORIES OF RECORDS IN THE SYSTEM” as follows:

(i) Category (1) about identifier information was updated to delete and replace “borrower” with “aid applicant and recipient”;

(ii) New category (2) was added to include “aid applicant demographic information, including an aid applicant's parent's and spouse's demographic information (if applicable), expected student enrollment, list of participating title IV, HEA institutions of higher education selected by the aid applicant to receive the Free Application for Federal Student Aid (FAFSA®) data along with residency plans, and the financial profile of an aid applicant and an aid applicant's parent(s) or spouse, as reported and calculated through the FAFSA form; and processing flags, indicators, rejections, and overrides”;

(iii) New category (4) was added to include “information on an aid applicant and recipient endorser or co-signer of a PLUS loan application from the origination of the loan through final payment, consolidation, discharge, or other final disposition, including details such as co-signer SSN, name, date of birth, driver's license (if reported), active-duty status (if applicable and reported), email address, address, phone number, and relevant loan information with respect to the loan on which they are the endorser or co-signer;”

(iv) Newly renumbered category (9) was modified to cover information related to an aid applicant's or recipient's application for title IV, HEA benefits, including information related to income-driven repayment or PSLF eligibility, such as current income, family size, repayment plan selections, employer name, dates of employment, employment status, and, if married, information about the borrower's spouse;

(v) Newly renumbered category (11) was modified to include TEACH grants in overpayments;

(vi) Newly renumbered category (18) was modified to cover information obtained pursuant to matching programs or other information exchanges with Federal and State agencies and other administrators of Federal funds and programs to assist in identifying individuals who may be eligible for aid applicant or recipient benefits related to their title IV, HEA loans or other title IV, HEA obligations, including TPD discharges, loan deferments, interest rate reductions, PSLF, and other Federal and State loan repayment or discharge benefits, or for the purpose of recouping payments or delinquent debts under title IV, HEA programs; and

(vii) New category (19) was added to include recorded phone calls to the customer service center including Personally Identifiable Information (PII), such as name, date of birth, SSN, and the reason for the call.

The Department is modifying the section entitled “RECORD SOURCE CATEGORIES” to include information from State, local, and Tribal agencies and other administrators of Federal funds and programs, to include parents and spouses of applicable aid applicants and recipients, and designated co-signers and endorsers, and to clarify that information may be obtained from a successor to any of the Department's systems, as the Department is working to replace some of its current systems.

The Department is also modifying the section entitled “RECORD SOURCE CATEGORIES” to delete and replace the reference to obtaining information from the Central Processing System (covered by the system of records entitled “Federal Student Aid Application File”) with all systems covered by the system of records entitled “Aid Awareness and Application Processing”.

The Department is modifying the section entitled “ROUTINE USES OF RECORDS MAINTAINED IN THE SYSTEM, INCLUDING CATEGORIES OF USERS AND PURPOSES OF SUCH USES” as follows:

(i) Routine use (1)(m) was modified to include Tribal agencies;

(ii) Routine use (1)(o) was deleted because the Consolidated Appropriations Act, 2021, repealed the requirements referenced therein regarding limiting Direct Subsidized Loan eligibility;

(iii) Newly renumbered routine use (1)(p) was added to permit disclosures to governmental entities at the Federal, State, Tribal, and local levels to help such entities exercise their supervisory and administrative powers (including, but not limited to, licensure, examination, discipline, regulation, or oversight of educational institutions, Department contractors, guaranty agencies, eligible lenders, and third-party servicers) or to investigate, respond to, or resolve complaints submitted regarding the practices or processes of the Department and/or the Department's contractors. These records may include records relating to all aspects of loans and grants made under title IV of the HEA, to permit these governmental entities to verify compliance with debt collection, consumer protection, financial, and other applicable statutory, regulatory, or local requirements. Before making a disclosure to these Federal, State, local, or Tribal governmental entities, the Department will require them to maintain safeguards consistent with the Privacy Act to protect the security and confidentiality of the disclosed records;

(iv) Routine use (6) was updated to add that a Congressional Member's written request for a record must be made not only at the written request of, but also on behalf of, an individual constituent whose records are being disclosed.

(v) Routine use (7)(b) was updated to include disclosures to Tribal agencies, agents and contractors of Federal, State, local, Tribal or other public agencies, and Department contractors (rather than only FSA contractors), and to delete and replace “authority” with “agency” for consistency; and

(vi) Routine use (14) was added to include disclosures to the National Archives and Records Administration (NARA) for the purpose of records management inspections conducted under the authority of 44 U.S.C. 2904 and 2906.

The Department is proposing to modify the section entitled “POLICIES AND PRACTICES FOR RETRIEVAL OF RECORDS” to delete and replace “student/borrower” with “aid applicant or recipient.”

The Department is modifying the section entitled “POLICIES AND PRACTICES FOR RETENTION AND DISPOSAL OF RECORDS” to indicate that the Department has proposed amendments to the primary records schedule, ED Records Schedule 051: FSA National Student Loan Data System (NSLDS) (DAA-044102017-0004) (ED 051), that covers NSLDS records for NARA's consideration, and will not destroy records covered by ED 051 until such amendments are in effect, as applicable.

The Department is modifying the section entitled “ADMINISTRATIVE, TECHNICAL, AND PHYSICAL SAFEGUARDS” to include information on requirements under the Federal Information Security Management Act of 2002 (FISMA), as amended by the Federal Information Security Modernization Act of 2014, to clarify that the Department system must receive a signed Authorization to Operate (ATO) from a designated Department official and to describe FISMA controls.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

For the reasons discussed in the preamble, the Chief Operating Officer, Federal Student Aid, U.S. Department of Education (Department) publishes a notice of a modified system of records to read as follows:

SYSTEM NAME AND NUMBER:

National Student Loan Data System (NSLDS) (18-11-06).

SECURITY CLASSIFICATION:

Unclassified.

SYSTEM LOCATION:

Director, Partner Systems Integration Division, Program Technical and Business Support Group, Partner Management and Support Services, Partner Participation and Oversight, Federal Student Aid (FSA), U.S. Department of Education, Union Center Plaza (UCP), 830 First Street NE, Room 41F1, Washington, DC 20202-5454.

Amazon Web Services (AWS) Government Cloud, 410 Terry Ave., North Seattle, WA 98109-5210. (This is the Computer Center for the NSLDS application, where all electronic NSLDS information is processed and stored.)

Accenture, 22451 Shaw Rd., Sterling, VA 20166-4319. (This is Accenture's main program office.)

Accenture DC, 820 First St. NE, Washington, DC 20202-4227. (This location is an alternate Accenture work site to support NSLDS.)

Accenture Federal Services, 10931 Laureate Dr., San Antonio, TX 78249. (This location is an alternate Accenture work site to support NSLDS.)

NTT Global Data Centers Americas, 44664 Guilford Dr., Ashburn, VA 20147 and 2008 Lookout Dr., Garland, TX 75044. (NSLDS call recordings are stored at these locations.)

Oracle Service Cloud, 500 Eldorado Blvd., Broomfield, CO 80021. (Provides customer case management and reporting capabilities to NSLDS Help Desk Customer Service Representatives (CSRs) and has the capability to track and store NSLDS inquiries, which allows CSRs to respond to these cases/inquiries.)

The following three listings are the locations of the NSLDS Customer Service Centers:

ASM Research, 2429 Military Rd., Suite 200, Niagara Falls, NY 14304-1551;

Senture, LLC, 4255 W Highway 90, Monticello, KY 42633-3398; and

Veteran Call Center, LLC, 53 Knightsbridge Rd., Suite 216, Piscataway, NJ 08854-3925.

SYSTEM MANAGER(S):

Director, Partner Systems Integration Division, Program Technical and Business Support Group, Partner Participation and Oversight Directorate, Federal Student Aid, U.S. Department of Education, UCP, 830 First Street NE, Room 41F1, Washington, DC 20202-5454.

AUTHORITY FOR MAINTENANCE OF THE SYSTEM:

The authority under which the system is maintained includes sections 101, 102, 132(i), 485, and 485B of the Higher Education Act of 1965, as amended (HEA) (20 U.S.C. 1001, 1002, 1015a(i), 1092, and 1092b), section 431(2) and (3) of the General Education Provisions Act (20 U.S.C. 1231a(2)-(3)), and the Higher Education Relief Opportunities for Students Act of 2003 (20 U.S.C. 1098bb) (including any waivers or modifications that the Secretary of Education deems necessary to make to any statutory or regulatory provision applicable to the student financial assistance programs under title IV of the HEA to achieve specific purposes listed in the section in connection with a war, other military operation, or a national emergency). The collection of Social Security numbers (SSNs) of individuals who are covered by this system is authorized by 31 U.S.C. 7701 and Executive Order 9397 (November 22, 1943), as amended by Executive Order 13478 (November 18, 2008).

PURPOSE(S) OF THE SYSTEM:

The information contained in this system is maintained for the following purposes relating to applicants and recipients of aid under title IV of the HEA:

(Note: Different parts of the HEA use the terms “discharge,” “cancellation,” or “forgiveness” to describe when a borrower's loan amount is reduced in whole or in part by the Department. To reduce complexity, this system of records notice uses the term “discharge” to include all three terms (“discharge,” “cancellation,” and “forgiveness”), including, but not limited to, discharges of student loans made pursuant to specific benefit programs. At times, the system of records notice may refer by name to a specific benefit program, such as the “Public Service Loan Forgiveness” program; such specific references are not intended to exclude any such program benefits from more general references to loan discharges.)

(1) to determine the eligibility of aid applicants and recipients for Federal student financial aid programs authorized by title IV of the HEA;

(2) to report changes in aid applicant and recipient enrollment status and enrollment in gainful employment programs;

(3) to track aid recipients who owe title IV, HEA obligations (debtors);

(4) to maintain information on the status of student loans;

(5) to maintain information on awards to students under the Federal Pell Grant program, the Academic Competitiveness Grant (ACG) program, the National Science and Mathematics Access to Retain Talent (National SMART) Grant program, the Teacher Education Assistance for College and Higher Education (TEACH) Grant program, the Federal Supplemental Educational Opportunity Grant (FSEOG) program, and the Iraq and Afghanistan Service Grant program;

(6) to provide borrowers and NSLDS users with loan refund and discharge details;

(7) to identify qualifying individuals and inform them about title IV, HEA benefits, including total and permanent disability (TPD) discharges, Public Service Loan Forgiveness (PSLF), and benefits under the Servicemembers Civil Relief Act (SCRA), 50 U.S.C. 3901-4043, to streamline the process for applying for loans and benefits, and to recoup payments or delinquent debts under the title IV, HEA programs;

(8) to provide consumer tools to the public to better evaluate the effectiveness of postsecondary institutions considering their costs, financial aid, loan repayment rates, completion rates, median debts, and the aggregate earnings of title IV, HEA aid recipients who were enrolled at postsecondary institutions participating in the title IV, HEA programs so that the public can make informed decisions about which postsecondary institution to attend;

(9) to enable the Department, or other Federal, State, Tribal or local government agencies, to investigate, respond to, or resolve complaints concerning the practices or processes of the Department and/or the Department's contractors, or to investigate, respond to, or resolve aid recipients' requests for assistance or relief with regard to title IV, HEA program funds;

(10) to conduct testing, analysis, or take other administrative actions needed to prepare for or execute programs under title IV of the HEA; and

(11) to process income eligibility information and documentation for aid applicants and recipients, or applicable aid applicants' and recipients' parents or spouses, pertaining to the discharge of eligible loans under title IV, HEA programs.

The information in the NSLDS is also maintained for the following purposes relating to institutions of higher education (also referred to herein as “educational institutions” or “postsecondary institutions”) participating in and administering the title IV, HEA programs:

(1) to permit Department staff, Department contractors, guaranty agencies, eligible lenders, and eligible institutions of higher education to verify the eligibility of a student, potential student, or parent for loans or Pell Grants or Pell Grant disbursements;

(2) to provide student aggregate loan calculations to educational institutions;

(3) to determine default rates for educational institutions, guaranty agencies, and lenders;

(4) to prepare electronic financial aid histories on aid applicants and recipients for educational institutions, guaranty agencies, Department staff, and Department contractors;

(5) to alert educational institutions of changes in students' financial aid eligibility via the Transfer Student Monitoring process;

(6) to assist Department staff, Department contractors and agents, guaranty agencies, the Department of Justice (DOJ), educational institutions, lenders, and servicers in collecting debts arising from the receipt of title IV, HEA funds;

(7) to assess title IV, HEA program activities by guaranty agencies, educational institutions, lenders, and servicers;

(8) to display organizational contact information provided by educational institutions, guaranty agencies, lenders, and servicers;

(9) to provide reporting capabilities for educational institutions, guaranty agencies, lenders, and servicers for use in title IV, HEA administrative functions and for the Department or other Federal, State, Tribal, or local agencies for use in oversight and compliance;

(10) to provide financial institutions and servicers, Department staff, and Department contractors with contact information on loan holders for use in the collection of loans;

(11) to provide educational institutions and servicers with information to resolve overpayments of Pell, ACG, National SMART, TEACH, Iraq and Afghanistan Service Grants, and FSEOG grants;

(12) to obtain data on and to report on students in a gainful employment program for the purposes of establishing whether a particular gainful employment program is successfully preparing students to be gainfully employed and making this information available to the educational institution;

(13) to provide consumer tools, such as the College Scorecard, that are designed to simplify information that prospective students receive about costs, financial aid, loan repayment rates, completion rates, median debts, and aggregate earnings of title IV, HEA aid recipients who were enrolled at postsecondary institutions participating in the title IV, HEA programs so that prospective students can make informed decisions about which postsecondary institution to attend; and

(14) to provide data for educational institutions to challenge their gainful employment performance metrics.

The information maintained in this system is also maintained for the following purposes relating to the Department's oversight and administration of the title IV, HEA programs:

(1) to assist audit and program review planning;

(2) to support research studies and policy development;

(3) to conduct budget analysis and program review planning;

(4) to provide information that supports the Department's compliance with the Federal Credit Reform Act of 1990, as amended (CRA) (2 U.S.C. 661 et seq.);

(5) to ensure only authorized users access the NSLDS database and to maintain a history of the aid applicant and recipient information reviewed;

(6) to track the Department's interest in loans funded through the Ensuring Continued Access to Student Loans Act of 2008 (ECASLA) (P.L. 110-227);

(7) to track TEACH grants that have been converted to loans;

(8) to track eligibility for PSLF;

(9) to assist in the calculation of metrics related to gainful employment programs;

(10) to provide data for program oversight and strategic decision-making in the administration of higher education programs;

(11) to track eligibility for Direct Subsidized Loans and interest subsidy based upon the level of study, Classification of Instructional Programs (CIP) code, and published length of the educational program in which a student is enrolled;

(12) to evaluate the effectiveness of an institution's education programs, and help provide information to the public at the institutional and programmatic level on this effectiveness;

(13) to verify that Federal, State, local, and Tribal statutory, regulatory, and program requirements are met by educational and financial institutions, Federal Loan Servicers, the Federal Perkins Loan Servicer, and guaranty agencies;

(14) to help governmental entities at the Federal, State, Tribal, and local levels exercise their supervisory and administrative powers (including, but not limited to, licensure, examination, discipline, regulation, or oversight of educational institutions, Department contractors, guaranty agencies, eligible lenders, and third-party servicers) or to investigate, respond to, or resolve complaints regarding the practices or processes of the Department and/or the Department's contractors, or to update information or correct errors contained in Department records regarding an aid recipient's title IV, HEA program funds;

(15) to provide information to support web-based access to aid applicant and recipient's title IV, HEA program data including enrollment; and

(16) to track loan transfers from one holder or servicer to another.

CATEGORIES OF INDIVIDUALS COVERED BY THE SYSTEM:

This system contains records on individual title IV, HEA aid applicants and recipients.

This system also contains information on the parent(s) of a dependent aid applicant or recipient and the spouse of a married aid applicant or recipient.

In addition, this system contains records on borrowers and endorsers who received or co-signed on a loan(s) under one of the programs authorized under title IV of the HEA, including:

(1) the William D. Ford Direct Loan Program (Direct Loan) Program, including Federal Direct Unsubsidized and Subsidized Stafford/Ford Loans, Federal Direct Consolidation Loans, and Federal Direct PLUS Loans;

(2) the Federal Family Education Loan (FFEL) Program,

(3) the Federal Insured Student Loan (FISL) Program, and

(4) the Federal Perkins Loan Program (including National Defense Student Loans, National Direct Student Loans, and Perkins Expanded Lending and Income Contingent Loans) (Perkins Loans).

This system also contains records on aid recipients of Federal Pell Grants, ACG, National SMART Grants, TEACH Grants, and Iraq and Afghanistan Service Grants, as well as on individuals who owe an overpayment on a Federal Pell Grant, an ACG, a TEACH Grant, a National SMART Grant, a FSEOG, an Iraq and Afghanistan Service Grant, or a Federal Perkins Loan.

Further, this system contains student enrollment information for individuals who have received title IV, HEA student assistance, as well as Master Conduit Loan Program Data, Master Loan Participation Program (LPP) Data, and loan-level detail on FFEL Subsidized, Unsubsidized, and Grad and Parent PLUS loans funded through those programs.

This system also contains records on students who are title IV, HEA aid recipients and who attended, or who are attending, a gainful employment program at a postsecondary institution.

Lastly, this system contains records from 2014-2021 on the level of study, CIP code, and published length of an educational program in which a student receiving title IV, HEA Federal student aid was enrolled to limit his or her eligibility for Direct Subsidized Loans to no more than 150 percent of the published length of the educational program in which the student was enrolled, and to determine when a borrower who enrolled after reaching the 150 percent limit would have been responsible for the accruing interest on outstanding Direct Subsidized Loans.

CATEGORIES OF RECORDS IN THE SYSTEM:

Records in the NSLDS include, but are not limited to:

(1) aid applicant and recipient identifier information, including SSN, name, date of birth, physical address, phone number, email address, and driver's license information;

(2) aid applicant demographic information, including an aid applicant's parent's and spouse's demographic information (if applicable), student enrollment, list of participating title IV, HEA institutions of higher education selected by the aid applicant to receive the Free Application for Federal Student Aid (FAFSA®) data along with residency plans, and the financial profile of an applicant and an aid applicant's parent(s) or spouse, as reported and calculated through the FAFSA form; and processing flags, indicators, rejections, and overrides;

(3) information on the borrower's loan(s) covering the period from the origination of the loan through final payment, consolidation, discharge, or other final disposition, including details such as loan amount, disbursements, balances, loan status, repayment plan payments and related information, collections, claims, deferments, forbearances, refunds, and discharges;

(4) information on an aid applicant's or recipient's endorser or co-signer of a PLUS loan application from the origination of the loan through final payment, consolidation, discharge, or other final disposition, including details such as co-signer SSN, name, date of birth, driver's license (if reported), active-duty status (if applicable and reported), email address, address, phone number, and relevant loan information with respect to the loan on which they are the endorser or co-signer;

(5) for students who began a program of study that prepares them for gainful employment in a recognized occupation pursuant to sections 1001 and 1002 of the HEA (“gainful employment program”), student identifiers including the student's SSN, date of birth, and name, student enrollment information including the Office of Postsecondary Education identification number (OPEID number) of the institution, the CIP code for the gainful employment program in which the student enrolled, and, if the student completed the program, the completion date and the CIP code of the completed program, the level of study, the amount of the student's private educational loan debt, the amount of institutionally provided financing owed by the student, and whether the student matriculated to a higher credentialed program at the same institution or another institution;

(6) aggregated income information on graduates and non-completers of a particular gainful employment program, and the median loan debt incurred by students enrolled in the gainful employment program, regardless of whether they completed the program;

(7) student demographic information, such as dependency status, citizenship, veteran status, marital status, gender, income and asset information (including income and asset information on the student's spouse, if married), expected family contribution;

(8) information on the parent(s) of a dependent recipient, including name, date of birth, SSN, marital status, email address, highest level of schooling completed, and income and asset information;

(9) information related to an aid applicant or recipients application for title IV, HEA benefits, including information relating to income-driven repayment or PSLF eligibility such as current income, family size, repayment plan selections, employer name, dates of employment, employment status, and information about the borrower's spouse if the borrower is married;

(10) Federal Pell Grant, ACG Grant, National SMART Grant, TEACH Grant, and Iraq and Afghanistan Service Grant amounts and dates of disbursement;

(11) Federal Pell Grant, ACG Grant, National SMART Grant, TEACH Grant, Iraq and Afghanistan Service Grant, FSEOG, and Federal Perkins Loan Program overpayment amounts;

(12) Information maintained by a guaranty agency, including, demographic, contact, and identifier information, a borrower's FFEL loan(s), and the lender(s), holder(s), and servicer(s) of the borrower's FFEL loan(s);

(13) NSLDS user profiles that include name, SSN, date of birth, employer, and NSLDS username;

(14) information concerning the date of any default on loans and the aggregated loan data to support cohort default rate calculations for educational institutions, financial institutions, and guaranty agencies;

(15) pre- and post-screening results used to determine a student's or parent's aid eligibility;

(16) information on financial institutions participating in the loan participation and sale programs established by the Department under ECASLA, including the collection of: ECASLA loan-level funding amounts, dates of ECASLA participation for financial institutions, dates and amounts of loans sold to the Department under ECASLA, and the amount of loans funded by the Department's programs but repurchased by the lender;

(17) information on the student's educational institution, level of study, the CIP code, and published length for the program in which the student enrolled for an institution or programs of studies at the institution;

(18) information obtained pursuant to matching programs or other information exchanges with Federal and State agencies and other administrators of Federal funds and programs to assist in identifying individuals who may be eligible for aid applicant's or recipient's benefits related to their title IV, HEA loans or other title IV, HEA obligations, including TPD discharges, loan deferments, interest rate reductions, PSLF, and other Federal and State loan repayment or discharge benefits, or for the purpose of recouping payments or delinquent debts under title IV, HEA programs; and

(19) recorded phone calls to the customer service center including personally identifiable information (PII), such as name, date of birth, SSN, and the reason for call.

RECORD SOURCE CATEGORIES:

Information is obtained from other Federal, State, local, and Tribal agencies, other administrators of Federal funds and programs, guaranty agencies, educational institutions, financial institutions and servicers, aid applicants and recipients, parents and spouses of applicable aid applicants and recipients, and designated co-signers and endorsers.

Information is also obtained from other Department systems, or their successor systems, such as the Federal Loan Servicers (covered by the system of records entitled “Common Services for Borrowers (CSB)”); Debt Management Collection System (covered by the system of records entitled “Common Services for Borrowers (CSB)”); Common Origination and Disbursement System (covered by the system of records entitled “Common Origination and Disbursement (COD) System”); Financial Management System (covered by the system of records entitled “Financial Management System (FMS)”); Student Aid internet Gateway, Participant Management System (covered by the system of records entitled “Student Aid internet Gateway (SAIG), Participation Management System”); Postsecondary Education Participants System (covered by the system of records entitled “Postsecondary Education Participants System”); and all systems covered by the system of records entitled “Aid Awareness and Application Processing”. Information in this system also may be obtained from other persons or entities from which data is obtained under routine uses set forth below.

ROUTINE USES OF RECORDS MAINTAINED IN THE SYSTEM, INCLUDING CATEGORIES OF USERS AND PURPOSES OF SUCH USES:

The Department may disclose information contained in a record in this system of records under the routine uses listed in this system of records notice without the consent of the individual if the disclosure is compatible with the purposes for which the record was collected. These disclosures may be made on a case-by-case basis or, if the Department has complied with the computer matching requirements of the Privacy Act of 1974, as amended (Privacy Act), under a computer matching agreement.

(1) Program Disclosures. The Department may disclose records to the specified users for the following program purposes:

(a) To verify the identity of the applicant involved, the accuracy of the record, or to assist with the determination of program eligibility and benefits, as well as institutional program eligibility, the Department may disclose records to the applicant, guaranty agencies, educational institutions, financial institutions and servicers, and to Federal and State agencies;

(b) To support default rate calculations and/or provide information on borrowers' current loan status, the Department may disclose records to guaranty agencies, educational institutions, financial institutions and servicers, and State agencies;

(c) To determine if educational programs lead to gainful employment in a recognized occupation, the Department may disclose records to educational institutions;

(d) To provide financial aid history information to aid in their administration of title IV, HEA programs, the Department may disclose records to educational institutions, guaranty agencies, loan holders, or servicers;

(e) To support auditors and program reviewers in planning and carrying out their assessments of title IV, HEA program compliance, the Department may disclose records to guaranty agencies, educational institutions, financial institutions and servicers, and to Federal, State, and local agencies;

(f) To support governmental researchers and policy analysts, the Department may disclose records to governmental organizations at the Federal, State, or local level, using safeguards for system integrity and provided that the recipient agrees to establish and maintain safeguards to protect the security and confidentiality of the disclosed records;

(g) To support Federal budget analysts in the development of budget needs and forecasts, the Department may disclose records to the Congressional Budget Office (CBO) and to Federal and State agencies;

(h) To assist in locating holders of loan(s), the Department may disclose records to guaranty agencies, educational institutions, financial institutions and servicers, and Federal agencies;

(i) To assist analysts in assessing title IV, HEA program participation by guaranty agencies, educational institutions, and financial institutions and servicers, the Department may disclose records to Federal and State agencies;

(j) To assist loan holders in locating borrowers, the Department may disclose records to guaranty agencies, educational institutions, financial institutions that hold an interest in the loan and their servicers, and to Federal agencies;

(k) To assist with meeting requirements under the CRA, the Department may disclose records to Federal agencies;

(l) To assist program administrators with tracking refunds and discharges of title IV, HEA loans, the Department may disclose records to guaranty agencies, educational institutions, financial institutions and servicers, and to Federal and State agencies;

(m) To enforce the terms of a loan, assist in the collection of a loan, or assist in the collection of an aid overpayment, the Department may disclose records to guaranty agencies, loan servicers, educational institutions and financial institutions, to the DOJ and private counsel retained by the DOJ, and to other Federal, State, local, or Tribal agencies;

(n) To assist the Department in tracking loans funded under ECASLA, the Department may disclose records to Federal agencies;

(o) To obtain data needed to assist the Department in evaluating the effectiveness of an institution's education programs and to provide the public with greater transparency about the level of economic return of an educational institution and their programs that receive title IV, HEA program assistance, the Department may disclose records to educational institutions and to Federal and State agencies, including the Social Security Administration and the U.S. Department of the Treasury; and

(p) To help Federal, State, Tribal, and local governmental entities exercise their supervisory and administrative powers (including licensure, examination, discipline, regulation, or oversight of educational institutions, Department contractors, guaranty agencies, eligible lenders, and third-party servicers) or to investigate, respond to, or resolve complaints submitted regarding the practices or processes of the Department and/or the Department's contractors, the Department may disclose records to governmental entities at the Federal, State, Tribal, and local levels. These records may include all aspects of records relating to loans and grants made under title IV of the HEA, to permit these governmental entities to verify compliance with debt collection, consumer protection, financial, and other applicable statutory, regulatory, or local requirements. Before making a disclosure to these Federal, State, local, or Tribal governmental entities, the Department will require them to maintain safeguards consistent with the Privacy Act to protect the security and confidentiality of the disclosed records.

(2) Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, Executive Order, rule, regulation, or order issued pursuant thereto.

(3) Litigation and Alternative Dispute Resolution (ADR) Disclosure.

(a) Introduction. In the event that one of the following parties listed in sub-paragraphs (i) through (v) is involved in judicial or administrative litigation or ADR, or has an interest in such litigation or ADR, the Department may disclose certain records to the parties described in paragraphs (b), (c), and (d) of this routine use under the conditions specified in those paragraphs:

(i) The Department or any of its components; or

(ii) Any Department employee in his or her official capacity; or

(iii) Any Department employee in his or her individual capacity where the DOJ agrees to or has been requested to provide or arrange for representation of the employee; or

(iv) Any Department employee in his or her individual capacity where the Department requests representation for or has agreed to represent the employee; or

(v) The United States, where the Department determines that the litigation is likely to affect the Department or any of its components.

(b) Disclosure to the DOJ. If the Department determines that disclosure of certain records to the DOJ is relevant and necessary to the judicial or administrative litigation or ADR, the Department may disclose those records as a routine use to the DOJ.

(c) Adjudicative Disclosure. If the Department determines that disclosure of certain records to an adjudicative body before which the Department is authorized to appear or to a person or entity designated by the Department or otherwise empowered to resolve or mediate disputes is relevant and necessary to judicial or administrative litigation or ADR, the Department may disclose those records as a routine use to the adjudicative body, person, or entity.

(d) Disclosure to Parties, Counsel, Representatives, and Witnesses. If the Department determines that disclosure of certain records is relevant and necessary to judicial or administrative litigation or ADR, the Department may disclose those records as a routine use to the party, counsel, representative, or witness.

(4) Freedom of Information Act (FOIA) or Privacy Act Advice Disclosure. The Department may disclose records to the DOJ or the Office of Management and Budget (OMB) if the Department seeks advice regarding whether records maintained in this system of records are required to be disclosed under the FOIA or the Privacy Act.

(5) Contract Disclosure. If the Department contracts with an entity to perform any function that requires disclosing records to the contractor's employees, the Department may disclose the records to those employees. As part of such a contract, the Department shall require the contractor to agree to establish and maintain safeguards to protect the security and confidentiality of the disclosed records.

(6) Congressional Member Disclosure. The Department may disclose records to a Member of Congress in response to an inquiry from the Member made at the written request of and on behalf of the individual whose records are being disclosed. The Member's right to the information is no greater than the right of the individual who requested it.

(7) Employment, Benefit, and Contracting Disclosure.

(a) For Decisions by the Department. The Department may disclose a record to a Federal, State, or local agency maintaining civil, criminal, or other relevant enforcement or other pertinent records, or to another public authority or professional organization, if necessary to obtain information relevant to a Departmental decision concerning the hiring or retention of an employee or other personnel action, the issuance of a security clearance, the letting of a contract, or the issuance of a license, grant, or other benefit.

(b) For Decisions by Other Public Agencies or their Agents or Contractors, Professional Organizations, or the Department's Contractors. The Department may disclose a record to a Federal, State, local, Tribal or other public agency or an agent or contractor of such a public agency, a professional organization, or a Department contractor, in connection with the hiring or retention of an employee or other personnel action, the issuance of a security clearance, the reporting of an investigation of an employee, the letting of a contract, or the issuance of a license, grant, or other benefit, to the extent that the record is relevant and necessary to the receiving entity's decision on the matter.

(8) Employee Grievance, Complaint, or Conduct Disclosure. If a record is relevant and necessary to a grievance, complaint, or disciplinary proceeding involving a present or former employee of the Department, the Department may disclose a record from this system of records during the course of investigation, fact-finding, mediation, or adjudication to any party to the grievance, complaint, or action to the party's counsel or representative, to a witness, or to a designated fact-finder, mediator, or other person designated to resolve issues or decide the matter.

(9) Labor Organization Disclosure. The Department may disclose records from this system of records to an arbitrator to resolve disputes under a negotiated grievance procedure or to officials of labor organizations recognized under 5 U.S.C. 71 when relevant and necessary to their duties of exclusive representation.

(10) Disclosure to the DOJ. The Department may disclose records to the DOJ to the extent necessary for obtaining DOJ advice on any matter relevant to an audit, inspection, or other inquiry related to the programs covered by this system.

(11) Disclosure to the OMB or CBO for CRA Support. The Department may disclose records to OMB or CBO as necessary to fulfill CRA requirements in accordance with 2 U.S.C. 661b.

(12) Disclosure in the Course of Responding to Breach of Data. The Department may disclose records from this system to appropriate agencies, entities, and persons when: (a) The Department suspects or has confirmed that there has been a breach of the system of records; (b) the Department has determined that as a result of the suspected or confirmed breach there is a risk of harm to individuals, the Department (including its information systems, programs and operations), the Federal government, or national security; and (c) the disclosure made to such agencies, entities, and persons is reasonably necessary to assist in connection with the Department's efforts to respond to the suspected or confirmed breach or to prevent, minimize, or remedy such harm.

(13) Disclosure in Assisting another Agency in Responding to a Breach of Data. The Department may disclose records from this system to another Federal agency or Federal entity, when the Department determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(14) Disclosure to the National Archives and Records Administration (NARA). The Department may disclose records from this system of records to NARA for the purpose of records management inspections conducted under the authority of 44 U.S.C. 2904 and 2906.

DISCLOSURE TO CONSUMER REPORTING AGENCIES:

Disclosures pursuant to 5 U.S.C. 552a(b)(12): The Department may disclose the following information to a consumer reporting agency regarding a valid overdue claim of the Department: (1) the name, address, taxpayer identification number, and other information necessary to establish the identity of the individual responsible for the claim; (2) the amount, status, and history of the claim; and (3) the program under which the claim arose. The Department may disclose the information specified in this paragraph under 5 U.S.C. 552a(b)(12) and the procedures contained in subsection 31 U.S.C. 3711(e). A consumer reporting agency to which these disclosures may be made is defined in 15 U.S.C. 1681a(f) and 31 U.S.C. 3701(a)(3).

POLICIES AND PRACTICES FOR STORAGE OF RECORDS:

The records are stored electronically.

POLICIES AND PRACTICES FOR RETRIEVAL OF RECORDS:

In order for users to retrieve aid applicant or recipient information, they must supply the respective SSN, name, and date of birth.

POLICIES AND PRACTICES FOR RETENTION AND DISPOSAL OF RECORDS:

Records are primarily retained and disposed of in accordance with ED Records Schedule 051: FSA National Student Loan Data System (NSLDS) (DAA-0441-2017-0004) (ED 051). The Department has submitted amendments to ED 051 for NARA's consideration and will not destroy records covered by ED 051 until such amendments are in effect, as applicable.

ADMINISTRATIVE, TECHNICAL, AND PHYSICAL SAFEGUARDS:

Authorized users: Access to the system is limited to authorized NSLDS program personnel and contractors responsible for administering the NSLDS program. Authorized personnel include Department employees and officials, financial and fiscal management personnel, computer personnel, and program managers who have responsibilities for implementing the NSLDS program. Read-only users: Read-only access is given to servicers, holders, financial/fiscal management personnel, and institutional personnel.

Physical safeguards: Magnetic tapes, disc packs, computer equipment, and other forms of data are stored in areas where fire and life safety codes are strictly enforced. Security guards are staffed 24 hours a day, seven days a week, to perform random checks on the physical security of the record storage areas.

Procedural safeguards: A password is required to access the terminal, and a data set name controls the release of data to only authorized users. In addition, all sensitive data is encrypted using Oracle Transparent Data Encryption functionality. Access to records is strictly limited to those staff members trained in accordance with the Privacy Act and Automatic Data Processing (ADP) security procedures. Contractors are required to maintain confidentiality safeguards with respect to these records. Contractors are instructed to make no further disclosure of the records except as authorized by the System Manager and permitted by the Privacy Act. All individuals who have access to these records receive appropriate ADP security clearances.

Department personnel make site visits to ADP facilities for the purpose of ensuring that ADP security procedures continue to be met. Privacy Act and ADP system security requirements are specifically included in contracts. The NSLDS project directors, project officers, and the system manager oversee compliance with these requirements.

In accordance with the Federal Information Security Management Act of 2002 (FISMA), as amended by the Federal Information Security Modernization Act of 2014, every Department system must receive a signed Authorization to Operate (ATO) from a designated Department official. The ATO process includes a rigorous assessment of security controls, a plan of actions and milestones to remediate any identified deficiencies, and a continuous monitoring program.

FISMA controls implemented are comprised of a combination of management, operational, and technical controls, and include the following control families: access control, awareness and training, audit and accountability, security assessment and authorization, configuration management, contingency planning, identification and authentication, incident response, maintenance, media protection, physical and environmental protection, planning, personnel security, privacy, risk assessment, system and services acquisition, system and communications protection, system and information integrity, and program management.

RECORD ACCESS PROCEDURES:

If you wish to gain access to a record in this system, you must contact the system manager with the necessary particulars such as your name, date of birth, SSN, the name of the school or lender from which the loan or grant was obtained, and any other identifying information requested by the Department while processing the request, to distinguish between individuals with the same name. Requests by an individual for access to a record must meet the requirements of the regulations at 34 CFR 5b.5, including proof of identity.

CONTESTING RECORD PROCEDURES:

If you wish to contest the content of a record in the system of records, you must contact the system manager with the necessary particulars such as your name, date of birth, SSN, the name of the school or lender from which the loan or grant was obtained, and any other identifying information requested by the Department while processing the request, to distinguish between individuals with the same name. You must also identify the specific item(s) to be changed, and provide a justification for the change, including any supporting documentation. Requests to amend a record must meet the requirements of the Department's Privacy Act regulations at 34 CFR 5b.7.

NOTIFICATION PROCEDURES:

If you wish to determine whether a record exists regarding you in this system of records, you must contact the system manager with the necessary particulars such as your name, date of birth, SSN, the name of the school or lender from which the loan or grant was obtained, and any other identifying information requested by the Department while processing the request, to distinguish between individuals with the same name. Requests for notification about whether the system of records contains information about an individual must meet the requirements of the regulations at 34 CFR 5b.5, including proof of identity.

EXEMPTIONS PROMULGATED FOR THE SYSTEM:

None.

HISTORY:

The System of Records entitled the “National Student Loan Data System” (18-11-06) was last modified and published in full on September 9, 2019 (84 FR 47265-47271).

[FR Doc. 2022-20682 Filed 9-21-22; 8:45 am]

BILLING CODE 4000-01-P